DEPARTMENT OF THE INTERIOR

Bureau of Land Management

[NV-056-5853-EU; N-62824, 7-08807]

Notice of Realty Action: Direct Sale of Federal Interest in Public Lands in Clark County, NV (N-62824)

AGENCY: Bureau of Land Management, Interior.

ACTION: Notice of realty action.

SUMMARY: The Bureau of Land Management (BLM) proposes to offer the Federal interest in public lands consisting of a reversionary interest, by direct sale, containing approximately 60 acres. The public lands have been designated for disposal within Clark County, Nevada, to Basic Management Incorporated (BMI) and will be offered for direct sale. The interest in land proposed for sale has been authorized and designated for disposal under the Southern Nevada Public Land Management Act of 1998 (112 Stat. 2343), as amended (hereinafter “SNPLMA”). The reversionary interest in the lands will be offered noncompetitively in accordance with the applicable provisions of Sections 203 and 209 of the Federal Land Policy Management Act of 1976 (FLPMA) (43 U.S.C. 1713 and 1719), and FLPMA's implementing regulations, in particular 43 CFR 2711.3-3. The environmental assessment, map, approved appraisal report and other supporting documentation are available for review at the BLM, Las Vegas Field Office (LVFO), Las Vegas, Nevada.

DATES: Written comments regarding the proposed sale must be received by the BLM on or before July 30, 2007.

ADDRESSES: Comments regarding the proposed sale should be addressed to: Field Manager, Las Vegas Field Office, Bureau of Land Management, 4701 N. Torrey Pines Drive, Las Vegas, Nevada 89130.

More detailed information regarding the proposed sale and the land involved may be reviewed during normal business hours (7:30 a.m. to 4:30 p.m.) at the BLM, Las Vegas Field Office (LVFO).

FOR FURTHER INFORMATION CONTACT: You may contact Anna Wharton, Supervisory Realty Specialist at (702) 515-5082. You may also call (702) 515-5000 and ask to have your call directed to a member of the Sales Team.

SUPPLEMENTARY INFORMATION: This sale is in conformance with the BLM, Las Vegas Resource Management Plan, approved October 15, 1998. BLM has determined that the sale action conforms with the land use plan decision LD-1 under the authority of FLPMA. The land contains no other known public values. The reversionary interest for the parcel will be sold at not less than the appraised fair market value (FMV) of the parcel, which has been determined to be $18,068,000.00. Appraisal of the reversionary interest was conducted in accordance with Federal appraisal standards and reviewed by the Department of the Interior prior to sale of public land or an interest in public land. On April 15, 1965, BMI, received a patent to approximately 60 acres of land under an Act of Congress dated August 27, 1954 (68 Stat. A223) (Act). Consistent with the Act, this patent was issued for the development, production, pumping, storage, transmission, and distribution of water. The patent contains a provision that states “provided, that, whenever the land herein granted shall cease to be used for the purposes for which it was granted, the estate of the grantee or its assigns shall terminate and revest to the United States”. The land has been used by BMI for 39 years for the purposes allowed in the patent in providing water for the City of Henderson, Nevada's municipal water system. Basic Environmental Company, LLC (BEC) as successor to Basic Management Incorporated, has requested a purchase of the reversionary interest, the remaining interest in the patented land held by the United States.

Regulation 43 CFR part 2711-3-3(a) states that “Direct sales (without competition) may be utilized, when in the opinion of the authorized officer, a competitive sale is not appropriate and the public interest would best be served by a direct sale. Examples include, but are not limited to * * * (2) A tract identified for sale that is an integral part of a project of public importance and speculative bidding would jeopardize a timely completion and economic viability of the project; and (3) There is a need to recognize an authorized use such as an existing business which could suffer a substantial economic loss if the tract were purchased by other than the authorized user.”

Due to the patent that authorizes the existing improvements owned and maintained by BEC, and the continuing use of the land to provide municipal water to the City of Henderson, it is impracticable for the United States to sell the land to any entity other than the current title holder. The SNPLMA directs orderly disposal of land. In the opinion of the authorized officer, a direct sale to BEC, best serves the public interest. Existing improved lands consist of 19.3 acres and the balance equals 40.7 acres, totaling 60 acres.

Land Proposed for Sale

Mount Diablo Meridian, Nevada

T. 21 S., R. 63 E.,

Sec. 33, SE¼SE¼NE¼SW¼, E½NE¼SE¼SW¼, NE¼SE¼SE¼SW¼, S½NW¼SE¼, N½SW¼SE¼, and N½S½SW¼SE¼.

The lands described above contain 60 acres, more or less, identified as Clark County Assessor Parcel 160-33-801-001.

Terms and Conditions of Sale

The parcel is subject to the following:

1. When the remaining interest in the parcel of land is sold, the locatable mineral interests will be sold simultaneously as part of the land sale. The land identified for sale has no known mineral value for minerals located under the 1872 Mining Law, as amended. Acceptance of the offer to purchase will constitute an application for conveyance of these mineral interests. In conjunction with the final payment, the applicant will be required to pay a $50 non-refundable filing fee for processing the conveyance of this mineral interest. Minerals that fall within the Mineral Leasing Act of 1920, and the Materials Act of 1947, as amended, are reserved under applicable law and any regulations that the Secretary of the Interior may prescribe, including all necessary access and exit rights.

2. A right-of-way is reserved for ditches and canals constructed by authority of the United States under the Act of August 30, 1890 (43 U.S.C. 945).

3. The parcel is subject to valid existing rights. Parcels may also be subject to applications received prior to publication of this Notice if processing the application would have no adverse affect on the federally approved Fair Market Value (FMV).

4. The parcel is subject to reservations for road, public utilities and flood control purposes, both existing and proposed, in accordance with the local governing entities' Transportation Plans.

5. All purchasers/patentees, by accepting a patent, agree to indemnify, defend, and hold the United States harmless from any cost, damages, claims, causes of action, penalties, fines, liabilities, and judgments of any kind or nature arising from the past, present, and future acts or omissions of the patentee or their employees, agents, contractors, or lessees, or any third-party, arising out of or in connection with the patentee's use, occupancy, or operations on the patented real property. This indemnification and hold harmless agreement includes, but is not limited to (1) Violations of Federal, State, and local laws and regulations that are now or may in the future become, applicable to the real property; (2) Judgments, claims or demands of any kind assessed against the United States; (3) Cost, expenses, or damages of any kind incurred by the United States; (4) Other releases or threatened releases of solid or hazardous waste(s) and/or hazardous substance(s), as defined by Federal or State environmental laws; off, on, into or under land, property and other interests of the United States; (5) Other activities by which solids or hazardous substances or wastes, as defined by Federal and State environmental laws are generated, released, stored, used or otherwise disposed of on the patented real property, and any cleanup response, remedial action or other actions related in any manner to said solid or hazardous substances or wastes; or (6) Natural resource damages as defined by Federal and State law. This covenant shall be construed as running with patented real property and may be enforced by the United States in a court of competent jurisdiction.

Pursuant to the requirements established by Section 120(h) of the Comprehensive Environmental Response, Compensation and Liability Act (CERCLA), (42 U.S.C. 9620(h)), as amended by the Superfund Amendments and Reauthorization Act of 1988, (100 Stat. 1670), notice is hereby given that the above-described lands have been examined and no evidence was found to indicate that any hazardous substances had been stored for one year or more, nor had any hazardous substances been disposed of or released on the subject property.

No warranty of any kind, express or implied, is given by the United States as to the title, physical condition or potential uses of the parcel of land proposed for sale; and the conveyance of any such parcel will not be on a contingency basis.

Maps delineating the subject interest in lands proposed for sale are available for public review at the BLM LVFO along with the appraisal.

Upon acceptance of the offer to purchase, BEC will submit 20% of the FMV to BLM, Las Vegas Field Office, 4701 North Torrey Pines Drive, Las Vegas, NV 89130. Within 180 days following payment of the deposit, BEC will remit the balance of the FMV to the BLM in the form of a certified check, money order, bank draft or cashier's check made payable to the Bureau of Land Management.

If in the opinion of the authorized officer, consummation of the sale is not fully consistent with FLPMA or other applicable laws or determined not to be in the public interest, the BLM may accept or reject any or all offers, or withdraw any portion of or interest in land from sale. If not sold, the parcel described in this Notice identified for a partial interest sale may be suspended from any further proposed actions without further legal notice. It is the buyer's responsibility to be aware of all applicable Federal, State and local governmental policies, laws, regulations and the historical use of the proposed property and the affect these lands would have pertaining to any future use or development.

Public Comments: The BLM Field Manager, Las Vegas Field Office, 4701 North Torrey Pines Drive, Las Vegas, NV 89130, will receive written comments from the general public and interested parties up to 45 days after publication of this Notice in the Federal Register. Only written comments submitted by postal service or overnight mail to the Field Manager BLM LVFO, will be considered properly filed; e-mail, facsimile or telephone comments will not be considered as properly filed. Any adverse comments will be reviewed by the Nevada State Director, who may sustain, vacate, or modify this realty action in whole or in part. In the absence of any adverse comments this realty action will become the final determination of the Department of the Interior. Any comments received during this process, as well as the commentor's name and address, will be available to the public in the administrative record and/or pursuant to a Freedom of Information Act request. Before including your address, telephone number, e-mail address, or other personal identifying information in your comment, you should be aware that your entire comment—including your personal identifying information—may be made publicly available at any time. While you can ask us in your comment to withhold from public review your personal identifying information, we cannot guarantee that we will be able to do so.

Dated: May 18, 2007.
Angie Lara,
Acting Field Manager.

[FR Doc. E7-11446 Filed 6-13-07; 8:45 am]

BILLING CODE 4310-HC-P